DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Thursday, June 1, 2006, 8:30 a.m. to 6 p.m.

ADDRESSES: The Gaithersburg Hilton Hotel, 620 Perry Parkway, Gaithersburg, Maryland, 20887, USA.

FOR FURTHER INFORMATION CONTACT: Albert L. Opdenaker, Office of Fusion Energy Sciences, U.S. Department of Energy, 1000 Independence Avenue, SW., Washington, DC 20585-1290; Telephone: 301-903-4927.

SUPPLEMENTARY INFORMATION: Purpose of the Meeting: The major purposes of the meeting are for the Fusion Energy Sciences Advisory Committee (FESAC) to (1) complete the charge to rate the program's progress toward meeting long-range PART measures; (2) review the EPAct-required plan for the participation of U.S. scientists in ITER; and, (3) hear from a small group of FESAC members that was appointed after the last meeting to consider how to address the charge on how the program should evolve over the coming decade taking into account new and upgraded international experiments, and how the U.S. program should prepare to make the transition to ITER.

Tentative Agenda

Thursday, June 1, 2006:

• Complete the charge on assessing the program's progress toward achieving long-range PART measures.

• Review the EPAct-required plan for the participation of U.S. Scientists in ITER.

• Discuss the approach to addressing the new charge to recommend how the program should evolve over the next ten years.

• Hear Public Comments.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room, 1E-190, Forrestal Building, 1000 Independence Avenue, SW., Washington, DC, between 9 a.m. and 4 p.m., Monday through Friday, except Federal holidays.

Issued at Washington, DC, on March 30, 2006.
Rachel M. Samuel,
Deputy Advisory Committee Management Officer.

[FR Doc. E6-4999 Filed 4-5-06; 8:45 am]

BILLING CODE 6450-01-P